DEPARTMENT OF HOMELAND SECURITY

Coast Guard

[CGD09-06-154]

Great Lakes Ballast Water Conference and Regional Waterways Management Forum

AGENCY: Coast Guard, DHS.

ACTION: Notice of conference and meeting.

SUMMARY: The Great Lakes Regional Waterways Management Forum will sponsor a conference on ballast water issues on September 27, 2006, and will hold a meeting the following day to address waterways management issues in the Great Lakes and the St. Lawrence Seaway. The conference and meeting are open to the public, but registration is required for the conference due to limited seating.

DATES: The Great Lakes Ballast Water Conference will be held September 27, 2006, from 8 a.m. to 6 p.m. The Great Lakes Regional Waterways Forum will meet September 28, 2006, from 8 a.m. to 4 p.m.

ADDRESSES: Both the conference and meeting will be held at the Crowne Plaza Hotel, 777 St. Clair Avenue, Cleveland, Ohio. Registration information for the conference should be mailed to Commander (dpw-1), Ninth Coast Guard District, 1240 E. 9th Street, Room 2069, Cleveland, OH 44199, or faxed to 216-902-6059.

FOR FURTHER INFORMATION CONTACT: If you have questions regarding this notice, call LT Regan Blomshield (dpw-1), Ninth Coast Guard District, telephone (216) 902-6050. Persons with disabilities requiring assistance to attend the conference or meeting should call LT Blomshield. To view the latest, detailed agenda for both the Ballast Water Conference and the Regional Waterways Management Forum, visit the USCG Web site: http://www.uscg.mil/hq/g-m/mso/estandards.htm.

SUPPLEMENTARY INFORMATION: Registration and Participation: Registration for the conference is required due to limited seating. To register, please mail or fax your name, position title, organization, address, phone and e-mail on an 8.5 x 11 inch piece of paper with a subject line “Conference Registration” to Commander (dpw-1), Ninth Coast Guard District, 1240 E. 9th Street, Room 2069, Cleveland, OH 44199. Registration may be faxed to 216-902-6059.

The public will have an opportunity to address the Forum members at the meeting on September 28. If you wish to be included in the Forum agenda, you must submit your request on or before September 18, 2006 to be considered. Any written comments or requests should be submitted to Commander (dpw-1), Ninth Coast Guard District, 1240 E. 9th Street, Room 2069, Cleveland, OH 44199. Requests may be faxed to 216-902-6059 with the subject line: GL Waterways Forum. There is no guarantee that all requests will be included in the agenda.

Conference and Forum Meeting: The Great Lakes Waterways Management Forum is composed of senior leadership from U.S. and Canadian government agencies, the marine transportation industry, and non-government organizations. The Forum meets twice a year to identify and improve waterways management issues that involve the Great Lakes region. The 1-day conference is dedicated to the Great Lakes Ballast Water Conference, “Targeting Ballast Water Technology.” The Ballast Water Conference will include speakers from industry, government and non-government organizations. Speakers will address the current development of ballast water treatment research, technology and protocol standards for preventing the introduction of aquatic invasive species into the Great Lakes.

The Forum meeting on September 28 will highlight current efforts of the Committee on Advanced Technology for Navigation Safety, including industry and government speakers on developing navigation technology, Automatic Identification Systems (AIS), and Electronic Chart Display and Information Systems (ECDIS). The Forum will also provide updates from the Canadian Coast Guard, Transport Canada, U.S. Coast Guard, NOAA and the Army Corps of Engineers on regional projects and operations.

Dated: August 23, 2006.
John E. Crowley, Jr.,
Rear Admiral, U.S. Coast Guard, Commander, Ninth Coast Guard District, Cleveland, Ohio.

[FR Doc. 06-7359 Filed 8-30-06; 8:45 am]

BILLING CODE 4910-15-P